DEPARTMENT OF THE INTERIOR

Bureau of Indian Affairs

Land Acquisitions; Navajo Nation, Arizona

AGENCY: Bureau of Indian Affairs, Interior.

ACTION: Notice of final agency determination.

SUMMARY: The Assistant Secretary—Indian Affairs made a final agency determination to acquire approximately 405.61 acres of land into trust for the Navajo Nation of Arizona on November 10, 2010.

FOR FURTHER INFORMATION CONTACT: Paula L. Hart, Director, Office of Indian Gaming, MS-3657 MIB, 1849 C Street, NW., Washington, DC 20240; Telephone (202) 219-4066.

SUPPLEMENTARY INFORMATION: This notice is published to comply with the requirement of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On November 10, 2010, the Assistant Secretary—Indian Affairs decided to accept approximately 405.61 acres of land into trust for the Navajo Nation of Arizona. The 405.61 acres are located in Coconino County, Arizona.

The land proposed for acquisition is described as follows:

A portion of the north half of Section 31, and the south half of Section 29, Township 21 North, Range 11 East, Gila and Salt River Meridian, Coconino County, Arizona, described as follows:

Beginning at a set aluminum cap marked “RLS 18215” at the corner common to Sections 29, 30, 31 and 32, Township 21 North, Range 11 East, Gila and Salt River Meridian, Coconino County, Arizona.

Thence North 00°25′51″ West, 460.17 feet along the west line of said Section 29 to a found ½;” diameter rebar with plastic cap marked “RLS 18215”;

Thence continuing North 00°25′51″ West, 880.64 feet along said west line of Section 29 to a found ½″ diameter rebar with plastic cap marked “RLS 18215”;

Thence continuing North 00°25′51″ West, 1297.66 feet along said west line of Section 29 to a found U.S. Government Land Office brass cap at the west quarter corner of said Section 29;

Thence North 89°34′49″ East, 90.00 feet along the latitudinal mid-section line of said Section 29 to a set ½” diameter rebar with plastic cap marked “RLS 18215”;

Thence South 00°25′51″ East 935.28 feet along a line parallel with and 90.00 feet east of said west line of Section 29 to a set ½” diameter rebar with plastic cap marked “RLS 18215”;

Thence North 44°11′15″ East, 99.65 feet to a set ½” diameter drill hole with brass tag °marked “RLS 18215”;

Thence North 88°48′21″ East, 292.56 feet to a set ½” diameter rebar with plastic cap marked “RLS 18215” and a point of curvature;

Thence northeasterly and southeasterly, 142.20 feet along the arc of a 1,500.00 foot radius curve, concave to the southwest, having a central angle of 05°25′53″, to a set ½″ diameter rebar with plastic cap marked “RLS 18215”;

Thence South 85°45′56″ East, 282.63 feet to a set ½” diameter rebar with plastic cap marked “RLS 18215” and a point of curvature;

Thence southeasterly and northeasterly, 313.58 feet along the arc of a 310.00 foot radius curve, concave to the northwest, having a central angle of 57°57′30″, to a set ½” diameter rebar with plastic cap marked “RLS 18215”;

Thence North 36°16′45″ East, 332.86 feet to a set ½” diameter rebar with plastic cap marked “RLS 18215” and a point of curvature;

Thence northeasterly and northwesterly, 128.10 feet along the arc of a 120.00 foot radius curve, concave to the northwest, having a central angle of 36°41′55″, to a set ½″ diameter rebar with plastic cap marked “RLS 18215”;

Thence North 00°25′11″ West, 378.02 feet to a point on said latitudinal mid-section line of Section 29 and the south line of ANTELOPE HILLS as recorded in Instrument No. 3438078, RCC, from which a ½” diameter rebar with cap marked “WITNESS CORNER” lies North 00°25′11″ West 75.00 feet;

Thence North 89°34′49″ East, 920.62 feet along said latitudinal mid-section line of said Section 29 and said south line of said ANTELOPE HILLS to a found ½” diameter rebar with plastic cap marked “RLS 18215” at the southeast corner of said ANTELOPE HILLS and the southwest corner of that parcel described in Docket 1810, Page 456, RCC;

Thence continuing North 89°34′49″ East, 110.50 feet along said latitudinal mid-section line of said Section 29 and the south line of said parcel described in Docket 1810, Page 456, RCC to a found ½″ diameter rebar with plastic cap marked “RLS 18215” at the southeast corner of said parcel;

Thence continuing North 89°34′49″ East, 224.26 feet along said latitudinal mid section line of said Section 29 and the south line of said parcel to a found ½″ diameter rebar with plastic cap marked “RLS 18548” at the center quarter corner of said Section 29;

Thence North 89°34′22″ East, 985.24 feet along said latitudinal mid-section line of said Section 29, the south line of said parcel, and the south line of that parcel described in Docket 1566, Page 60, RCC, to a found U.S. Government Land Office brass cap on the west line of the Navajo Indian Reservation per Executive Order November 14, 1901;

Thence South 00°21′46″ East, 1299.10 feet along said west line to a found ½” diameter rebar with plastic cap marked “RLS 18215”;

Thence continuing South 00°21′46″ East, 1342.25 feet along said west line to a found U.S. Government Land Office brass cap marked “M1 NIR” at the intersection of said west line and the line common to said Section 29 and 32;

Thence South 89°37′12″ West, 985.03 feet along the south line of said Section 29 to a found ½” diameter rebar with tag marked “RLS 18215” at the south quarter corner of said Section 29;

Thence South 89°36′50″ West, 184.95 feet along said south line of said Section 29 to a found ½” diameter rebar with plastic cap marked “RLS 18215”;

Thence continuing South 89°36′50″ West, 1135.59 feet along said south line of said Section 29 to a found ½” diameter rebar with cap marked “RLS 18548” ;

Thence continuing South 89°38′10″ West, 34.93 feet along said south line of said Section 29 to a found ½” diameter rebar with cap marked “RLS 18215”;

Thence continuing South 89°38′10″ West 967.64 feet along said south line of said Section 29 to a found ½″ diameter rebar with cap marked “RLS 18215”;

Thence continuing South 89°38′10″ West, 318.08 feet along said south line of said Section 29 to said set aluminum cap marked “RLS 18215” at said corner common to Sections 29, 30, 31 and 32, Township 21 North, Range 11 East, Gila and Salt River Meridian, Coconino County, Arizona;

Thence South 00°14′09″ East, 1442.34 feet along said east line of Section 31 to a found ½” diameter rebar with plastic cap marked “RLS 18215”;

Thence continuing South 00°14′09″ East, 1196.29 feet along said east line of Section 31 to a found U.S. Government Land Office brass cap at the east quarter corner of said Section 31;

Thence South 89°38′03″ West, 1455.50 feet along the meridional mid-section line of said Section 31 to a found ½” diameter rebar with plastic cap marked “RLS 18215”;

Thence continuing South 89°38′03″ West, 1184.20 feet along said meridional mid-section line of said Section 31 to a found aluminum cap marked “LS 18548” at the center quarter corner of said Section 31;

Thence South 89°37′41″ West, 532.09 feet along said meridional mid-section line of said Section 31 to a found ½” diameter rebar with plastic cap marked “RLS 18215”;

Thence continuing South 89°37′41″ West, 128.83 feet along said meridional mid-section line of said Section 31 to a found ½” diameter rebar with broken aluminum cap;

Thence South 89°41′33″ West, 660.12 feet along said meridional mid-section line of said Section 31 to a found ½” diameter rebar with broken aluminum cap;

Thence South 89°36′36″ West, 661.07 feet along said meridional mid-section line of said Section 31 to a found ½″ diameter rebar with plastic cap marked “RLS 18215”;

Thence North 00°22′23″ West, 659.83 feet to a set ½” diameter rebar with plastic cap marked “RLS 18215”;

Thence North 00°21′46″ West, 659.54 feet to a found ½” diameter rebar with plastic cap marked “RLS 18215”;

Thence North 00°23′06″ West, 989.81 feet to a found drill hole in rock with a brass tag marked “RLS 18215” on the north line of said Section 31;

Thence North 89°38′52″ East, 1321.10 feet along said north line of Section 31 to a found ½” diameter rebar with plastic cap marked “RLS 18215”;

Thence South 00°23′36″ East, 1154.89 feet to a found ½” diameter rebar with plastic cap with obliterated markings:

Thence South 89°40′52″ West, 132.11 feet to a found ½″ diameter rebar with aluminum cap marked “LS 28717”;

Thence South 89°39′38″ West, 528.45 feet to a found ½″ diameter rebar with cap marked “LS 14184”;

Thence South 00°23′27″ East, 293.62 feet to a found ½″ diameter rebar with plastic cap marked “RLS 18215”;

Thence South 00°23′27″ East, 530.82 feet to a found ½″ diameter rebar with plastic cap marked “RLS 18215”;

Thence North 89°39′30″ East, 528.41 feet to a found ½″ diameter rebar with plastic cap marked “RLS 18215”;

Thence North 00°23′54″ West, 549.91 feet to a found ½″ diameter rebar with aluminum cap marked “LS 28717”;

Thence North 89°38′16″ East, 792.64 feet to a found ½″ diameter rebar with aluminum cap marked “LS 28717”;

Thence South 00°24′27″ East, 550.19 feet to a found ½″ diameter rebar with plastic cap marked “RLS 18215”;

Thence North 89°37′33″ East, 660.15 feet to a found ½″ diameter rebar with plastic cap marked “RLS 18215”;

Thence North 00°21′31″ West, 1319.49 feet to a found ½″ diameter rebar with plastic cap marked “RLS 18215”;

Thence North 89°37′18″ East, 495.88 feet to a found ½″ diameter rebar with tag marked “RLS 18215”;

Thence North 00°19′21″ West, 659.45 feet to a found ½″ diameter rebar with plastic cap marked “RLS 18215” on said north line of Section 31;

Thence North 89°39′00″ East, 827.35 feet along said north line of Section 31 to a found ½” diameter rebar with plastic cap marked “RLS 18215”;

Thence North 89°37′28″ East, 661.65 feet along said north line of Section 31 to the point of beginning.

Containing 17,668,330 square feet (405.61 acres), more or less.

This notice is published in the exercise of authority delegated by the Secretary of the Interior to the Assistant Secretary—Indian Affairs by 209 Departmental Manual 8.1.

Dated: November 12, 2010.
Larry Echo Hawk,
Assistant Secretary—Indian Affairs.

[FR Doc. 2010-29389 Filed 11-19-10; 8:45 am]

BILLING CODE 4310-4N-P